FEDERAL ELECTION COMMISSION

Sunshine Act Meeting

AGENCY: Federal Election Commission.

Date and Time: Wednesday, October 8, 2008 at 10 a.m.

Place: 999 E Street, NW., Washington, DC (Ninth Floor).

Status: This meeting will be open to the public.

Items To Be Discussed: Correction and Approval of Minutes.

Draft Advisory Opinion 2008-10: VoterVoter.com by Joseph M. Birkenstock, Esquire.

Draft Advisory Opinion 2008-11: Lawrence Martin E. Brown.

Draft Advisory Opinion 2008-12: Independent Party of Oregon by Linda K. Williams, Esquire.

Management and Administrative Matters.

Person To Contact for Information: Robert Biersack, Press Officer; Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. E8-23649 Filed 10-6-08; 8:45 am]

BILLING CODE 6715-01-M